FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than June 2, 2020.

A. Federal Reserve Bank of Dallas (Robert L. Triplett III, Senior Vice President) 2200 North Pearl Street, Dallas, Texas 75201-2272:

1. C&D Family Holding II, LP, Chirag Patel, general partner; LKP Reserve, LP, Mital Patel, general partner; and Sagestar Family II, LP, Mehul Patel, general partner, all of Lewisville, Texas; as a group acting in concert to acquire voting shares of Bright Force Holding GP, LLC, Lewisville, Texas, and thereby indirectly acquire voting shares of American Bank, National Association, Dallas, Texas.

Board of Governors of the Federal Reserve System, May 13, 2020.
Yao-Chin Chao,
Assistant Secretary of the Board.

[FR Doc. 2020-10615 Filed 5-15-20; 8:45 am]

BILLING CODE P